SMALL BUSINESS ADMINISTRATION

13 CFR Part 121

Small Business Size Standards; Waiver of the Nonmanufacturer Rule

AGENCY: Small Business Administration (SBA).

ACTION: Final rule, and request for comments.

SUMMARY: The SBA originally announced its final decision to grant the Nonmanufacturer Rule for bearings, plain, unmounted and bearings mounted which was published in the Federal Register on May 30, 2002 (67 FR 37665). SBA became aware of the possible existence of a small business manufacturer for bearings, plain, unmounted, under North American Industry Classification 333613, Product Service Code (PSC) 3120. The purpose of this notice is to notify the public of this small business manufacturer of bearings, plain, unmounted under PSC 3120 and to retain a waiver of the Nonmanufacturer Rule for bearings, mounted under PSC 3130 and solicit comments from interested parties.

DATES: Comments and sources must be submitted on or before October 11, 2002.

ADDRESSES: Edith G. Butler, Program Analyst, Small Business Administration, 409 3rd Street, SW., Washington DC, 20416.

FOR FURTHER INFORMATION CONTACT: Edith G. Butler, Tel: (202) 619-0422

SUPPLEMENTARY INFORMATION: Public Law 100-656, enacted on November 15, 1988, incorporated into the Small Business Act the previously existing regulation that recipients of Federal contracts set aside for small businesses or SBA 8(a) Program procurement must provide the product of a small business manufacturer or processor, if the recipient is other than the actual manufacturer or processor. This requirement is commonly referred to as the Nonmanufacturer Rule. The SBA regulations imposing this requirement are found at 13 CFR 121.906(b) and 121.1106(b). Section 303(h) of the law provides for waiver of this requirement by SBA for any “class of products” for which there are no small business manufacturers or processors in the Federal market. To be considered available to participate in the Federal market on these classes of products, a small business manufacturer must have submitted a proposal for a contract solicitation or received a contract from the Federal government within the last 24 months. The SBA defines “class of products” based on two coding systems. The first is the Office of Management and Budget North American Industry Classification System. The second is the Product and Service Code established by the Federal Procurement Data System.

Barry S. Meltz,
Deputy Associate Administrator for Government Contracting.

[FR Doc. 02-24558 Filed 9-26-02; 8:45 am]

BILLING CODE 8025-01-P